NUCLEAR REGULATORY COMMISSION

Atomic Safety and Licensing Board

[Docket No. 50-271-LR; ASLBP No. 06-849-03-LR]

In the Matter of Entergy Nuclear Vermont Yankee, L.L.C., and Entergy Nuclear Operations, Inc. (Vermont Yankee Nuclear Power Station) Notice of Opportunity to Make Oral or Written Limited Appearance Statements Concerning Proposed License Renewal

July 18, 2007.

Before Administrative Judges: Alex S. Karlin, Chairman. Dr. Richard E. Wardwell. Dr. Thomas S. Elleman.

This proceeding concerns the January 25, 2006, application of Entergy Nuclear Vermont Yankee, L.L.C., and Entergy Nuclear Operations, Inc. (collectively, Entergy) to renew the operating license for the Vermont Yankee Nuclear Power Station in Windham County, Vermont (Operating License No. DPR-28). Entergy seeks to extend this license for an additional twenty years beyond the current expiration date of March 21, 2012. This Atomic Safety and Licensing Board hereby gives notice that, pursuant to 10 CFR 2.315(a), the Board will entertain oral limited appearance statements from members of the public regarding the requested license renewal. The limited appearance statement sessions will be held on October 11, 2007, in Brattleboro, Vermont.

I. Background and Scope of Proceeding

On March 27, 2006, the Commission published a notice of acceptance for docketing of the Entergy renewal application and a notice of opportunity to request a hearing on the application. 71 FR 15,220 (Mar. 27, 2006). Timely requests for hearings and petitions to intervene were filed by four entities: The Vermont Department of Public Service (DPS), the Attorney General of the Commonwealth of Massachusetts, the Town of Marlboro, Vermont, and the New England Coalition (NEC). On June 14, 2006, this Atomic Safety and Licensing Board was established to conduct this adjudication. 71 FR 34,397 (June 14, 2006).

On August 1 and 2, 2006, the Board heard oral argument from the petitioners, Entergy, and the NRC Staff in Brattleboro, Vermont, relating to the admissibility of the proposed contentions. The standing of the petitioners to intervene was uncontested. On September 22, 2006, the Board issued a Memorandum and Order admitting contentions submitted by DPS and NEC, thereby granting two of the requests for a hearing and admitting DPS and NEC as parties to the proceeding. LBP-06-20, 64 NRC 131, 143 (2006). At the same time, the Board granted these two organizations' requests to adopt one another's contentions under 10 CFR 2.309(f)(3). On November 17, 2006, the Board granted the request by the State of New Hampshire to participate in this proceeding as an interested state under 10 CFR 2.315(c). The only admitted DPS contention has now been settled, but since DPS adopted NEC's admitted contentions, it remains a party to the proceeding.¹

¹ Licensing Board Order (Approving Settlement of DPS Contention 1) (May 31, 2007) (unpublished).

At the present time NEC's three admitted contentions define the scope of this license renewal proceeding and therefore the scope of any limited appearance statements. The contentions are as follows:

NEC Contention 2: Entergy's License Renewal Application does not include an adequate plan to monitor and manage the effects of aging [due to metal fatigue] on key reactor components that are subject to an aging management review, pursuant to 10 CFR 54.21(a) and an evaluation of time limited aging analysis, pursuant to 10 CFR 54.21(c).

NEC Contention 3: Entergy's License Renewal Application does not include an adequate plan to monitor and manage aging of the steam dryer during the period of extended operation.

NEC Contention 4: Entergy's License Renewal Application does not include an adequate plan to monitor and manage aging of plant piping due to flow-accelerated corrosion during the period of extended operation.²

² These contentions are specified at LBP-06-20, 64 NRC 131, 183, 187, 192 (2006).

If additional contentions are subsequently admitted, or if any of the currently admitted contentions are later settled or dismissed, then the scope of this proceeding, and of any limited appearance statements, will follow the scope of the admitted contentions.

II. Notice of Limited Appearance Statement Sessions

A. Date, Time, and Location of Oral Limited Appearance Statement Sessions

The oral limited appearance sessions will be on the following dates, at the specified location and times:

Date: Thursday, October 11, 2007.

Time: 1 p.m. to 4 p.m. and 6:30 p.m. to 10:30 p.m.

Location: Latchis Theatre, 50 Main Street, Brattleboro, Vermont.

B. Participation Guidelines for Oral Limited Appearance Statements

Any person who is not a party will be permitted to make an oral statement setting forth his or her position on matters of concern related to this proceeding.³ Speakers should be aware that the jurisdiction of this Board and the scope of this proceeding is limited to the license renewal. Limited appearance statements will be transcribed but are not under oath or affirmation and do not constitute testimony or evidence. The purpose of limited appearance statements is to allow members of the public to alert the Board and the parties to areas relating to the license renewal and the admitted contentions in which evidence may need to be adduced, and to assist the Board in its consideration of these issues.⁴

³ The parties to this proceeding are Entergy Nuclear Vermont Yankee, L.L.C. and Entergy Nuclear Operations, Inc., the NRC Staff, the Department of Public Service of the State of Vermont, and the New England Coalition. The State of New Hampshire is participating in the proceeding as an interested state.

⁴ See 10 CFR 2.315(a); Iowa Electric Light & Power Co. (Duane Arnold Energy Center), ALAB-108, 6 AEC 195, 196 n.4 (1973); 10 CFR Part 2, Appendix A, § III(b) (2004), deleted Final Rule, Changes to Adjudicatory Process, 69 FR 2182, 2274 (Jan. 14, 2004).

Oral limited appearance statements will be entertained during the hours specified above, or such lesser time as may be necessary to accommodate the speakers who are present. If all scheduled and unscheduled speakers present at a session have made a presentation, the Board reserves the right to terminate the session before the ending times listed above.

In order to allow all interested persons an opportunity to address the Board, the time allotted for each oral limited appearance statement will be no more than five minutes, and may be further limited depending on the number of written requests to make an oral statement that are submitted in accordance with section C below and/or the number of persons present at the designated times. At the outset of each statement, the speaker should identify himself or herself.

Members of the public who plan to attend the limited appearance sessions are advised that security measures may be employed at the entrance to the facility, including searches of hand-carried items such as briefcases or backpacks. Signs no larger than 18″ by 18″ will be permitted during the limited appearance sessions, but may not be attached to sticks, held up, or moved about in the room. Cf. Policy Statement on Enhancing Public Participation in NRC Meetings, 67 Fed. Reg. 36,920, 36,923 (May 28, 2002).

C. Submitting a Request to Make an Oral Limited Appearance Statement

Persons wishing to make an oral statement who have submitted a timely written request to do so will be given priority over those who have not filed such a request. To be considered timely, a written request to make an oral statement must either be mailed, faxed, or sent by e-mail so as to be received by 5 p.m. Eastern Daylight Time on Friday, October 5, 2007. The request should specify the session (afternoon or evening) during which the requester wishes to make an oral statement. Based on its review of the requests received by October 5, 2007, the Licensing Board reserves the right to cancel or shorten either of the sessions due to a lack of public interest.

Written requests to make an oral statement should be submitted to:

Mail: Office of the Secretary, Rulemakings and Adjudications Staff, U.S. Nuclear Regulatory Commission, Washington, DC 20555-0001.

Fax: (301) 415-1101 (verification (301) 415-1966).

E-mail: hearingdocket@nrc.gov.

In addition, using the same method of service, a copy of the written request to make an oral statement should be sent to the Chairman of this Licensing Board as follows:

Mail: Alex S. Karlin, Chairman, c/o: Marcia Carpentier, Esq., Law Clerk, Atomic Safety and Licensing Board Panel, Mail Stop T-3 E2C, U.S. Nuclear Regulatory Commission, Washington, DC 20555-0001.

Fax: (301) 415-5599 (verification (301) 415-7405).

E-mail: mxc7@nrc.gov and ksv@nrc.gov.

D. Written Limited Appearance Statements (In Lieu of Oral Statements)

A written limited appearance statement may be submitted to the Board regarding this proceeding at any time. The Board encourages early submissions, however, so that Board members will be able to consider them while addressing the issues in this proceeding. Such statements should be sent to the Office of the Secretary using the methods prescribed above, with a copy to the Licensing Board Chairman. A person who has already filed a written limited appearance statement in this matter is not required to resubmit it, but should notify the Board, as specified above, if he or she wishes to make an oral statement during the October sessions.

III. Availability of Documentary Information Regarding the Proceeding

Documents relating to this proceeding are available for public inspection at the Commission's Public Document Room (PDR) or electronically from the publicly available records component of NRC's Agencywide Documents Access and Management System (ADAMS). ADAMS is accessible from the NRC Web site at http://www.nrc.gov/reading-rm/adams.html (the Public Electronic Reading Room). Persons who do not have access to ADAMS or who encounter problems in accessing the documents located in ADAMS should contact the NRC PDR reference staff by telephone at (800) 397-4209, (301) 415-4737, or by e-mail to pdr@nrc.gov.

IV. Scheduling Information Updates

Any updated/revised scheduling information regarding the limited appearance sessions can be found on the NRC Web site at http://www.nrc.gov/public-involve/public-meetings/index.cfm or by calling (800) 368-5642, extension 5036, or (301) 415-5036.

It is so ordered.

For the Atomic Safety and Licensing Board.⁵
⁵ Copies of this order were sent this date by internet e-mail transmission to counsel for (1) licensees Entergy Nuclear Vermont Yankee, L.L.C., and Entergy Nuclear Operations, Inc.; (2) intervenors Vermont Department of Public Service and New England Coalition of Brattleboro, Vermont; (3) the Staff, and (4) the State of New Hampshire.
Dated: July 18, 2007.
Alex S. Karlin,
Chairman, Administrative Judge, Rockville, Maryland.

[FR Doc. 07-3604 Filed 7-23-07; 8:45 am]

BILLING CODE 7590-01-P